SMALL BUSINESS ADMINISTRATION (SBA)

Federal Assistance to Provide Financial, Counseling, Technical Assistance and Long-Term Training to Small Business Owners and Those Interested in Starting a Small Business

AGENCY: Small Business Administration.

ACTION: SBDC 2000 Program Announcement for FY 2001 and CY 2001.

SUMMARY: The Small Business Administration plans to issue an SBDC program announcement. SBA plans to issue an SBDC 2000 Program Announcement for FY 2001 and CY 2001 to invite applicants from Institutions of Higher Education and Women's Business Centers to establish, manage, and oversee a Small Business Development Center (SBDC) Network in the State of Michigan.

The authorizing legislation is section 21 of the Small Business Act, (15 U.S.C. 648), as amended by section 6 of Pub. L.101-515.

SBA's Detroit District Office will hold a bidders conference on November 6, 2000.

SBA's Detroit District Office must receive applications/proposals by November 20, 2000.

SBA will select the applicants competitively. The successful applicant will receive an award to provide long term training, counseling and technical assistance to businesses/persons who want to start or expand a small business.

The applicant must submit a one year plan that describes the network, proposed fund raising, training and technical assistance activities. Award recipients must provide non-Federal matching funds, i.e., one-non Federal dollar for each Federal dollar for the project-year. At least half of the matching requirement must be in cash. The remainder may be in in-kind or in waived indirect cost.

DATES: SBA will mail program announcements to interested parties, immediately, upon request. The Opening date will be October 3, 2000 and the closing date will be November 3, 2000.

FOR FURTHER INFORMATION CONTACT: Eugene Cornelius, (313) 226-7240.

Johnnie L. Albertson,
Associate Administrator for Small Business Development Centers.

[FR Doc. 00-25368 Filed 10-2-00; 8:45 am]

BILLING CODE 8025-01-P